DEPARTMENT OF EDUCATION

Application for New Awards; Expanding Opportunity Through Quality Charter Schools Program (CSP)—Grants to State Entities

AGENCY: Office of Innovation and Improvement, Department of Education.

ACTION: Notice.

SUMMARY: CSP—Grants to State Entities; Notice inviting applications for new awards for fiscal year (FY) 2017.

Catalog of Federal Domestic Assistance (CFDA) Number: 84.282A.

DATES: Application Available: March 27, 2017.

Date of Pre-Application Webinar: March 30, 2017, 2:00 p.m. to 4:00 p.m., Washington, DC, time.

Deadline for Transmittal of Applications: May 11, 2017.

Deadline for Intergovernmental Review: July 10, 2017.

FOR FURTHER INFORMATION CONTACT: Kathryn Meeley, U.S. Department of Education, 400 Maryland Avenue SW., Room 4W257, Washington, DC 20202-5970. Telephone: (202) 453-6818 or by email: kathryn.meeley@ed.gov.

If you use a TDD or a TTY, call the FRS, toll free, at 1-800-877-8339.

SUPPLEMENTARY INFORMATION:

Full Text of Announcement

I. Funding Opportunity Description

Purpose of Program: Through the CSP Grants to State Entities (CSP State Entities) competition (CFDA number 84.282A), the Department awards grants to “State entities” (as defined in this notice) to enable them to award subgrants to “eligible applicants” (as defined in this notice) to enable such eligible applicants to open and prepare for the operation of new “charter schools” (as defined in this notice) and to “replicate” (as defined in this notice) and “expand” (as defined in this notice) “high-quality charter schools” (as defined in this notice). Grant funds may also be used to provide technical assistance to eligible applicants and “authorized public chartering agencies” (as defined in this notice) in opening and preparing for the operation of new charter schools, or replicating or expanding high-quality charter schools; and to work with authorized public chartering agencies to improve authorizing quality, including developing capacity for, and conducting, fiscal oversight and auditing of charter schools.

Background: The CSP State Entities program provides financial assistance to State entities to support charter schools that serve elementary and secondary school students in a given “State” (as defined in this notice). Charter schools receiving funds under the CSP State Entities program also may serve students in “early childhood education programs” (as defined in this notice) or postsecondary students.

The CSP State Entities program is newly authorized under the Elementary and Secondary Education Act of 1965 (ESEA), as amended by the Every Student Succeeds Act (ESSA) (20 U.S.C. 7221-7221j).¹ This notice contains information regarding eligibility, priorities, definitions, application requirements, and selection criteria under the new law.

¹ Prior to enactment of the ESSA, the ESEA, as amended by the No Child Left Behind Act of 2001 (NCLB), authorized the Secretary to make awards to State educational agencies to enable them to conduct charter school subgrant programs in their States. Unless otherwise indicated, all references to the ESEA in this notice are to the ESEA, as amended by the ESSA.

All charter schools receiving CSP funds must meet the definition of “charter school” in section 4310(2) of the ESEA, including by complying with various non-discrimination laws, such as the Age Discrimination Act of 1975, Title VI of the Civil Rights Act of 1964, Title IX of the Education Amendments of 1972, section 504 of the Rehabilitation Act of 1973, the Americans with Disabilities Act of 1990, section 444 of the General Education Provisions Act (GEPA), and part B of the Individuals with Disabilities Education Act (IDEA).

Priorities: This notice includes eight competitive preference priorities. Competitive preference priorities 1 and 2 are from the notice of final priorities, requirements, definitions, and selection criteria for this program, published in the Federal Register on June 15, 2015 (80 FR 34201) (NFP). Competitive preference priorities 3 through 8 are from section 4303(g)(2) of the ESEA.

Competitive Preference Priorities: For FY 2017 and any subsequent year in which we make awards based on the list of unfunded applications from this competition, these priorities are competitive preference priorities. Under 34 CFR 75.105(c)(2)(i) we award:

• An additional five points to an application that meets one, and an additional 10 points to an application that meets both, of competitive preference priorities 1 and 2;

• An additional two points to an application that meets competitive preference priority 3;

• Up to an additional eight points, depending on how well the application addresses one or more of competitive preference priorities 4, 5, 6, and 7; and

• Up to an additional five points, depending on how well the application addresses competitive preference priority 8.

An application may receive up to a total of 25 points under the competitive preference priorities.

Competitive Preference Priority 1—Periodic Review and Evaluation (0 or 5 points): To meet this priority, an applicant must demonstrate that the State provides for periodic review and evaluation by the authorized public chartering agency of each charter school at least once every five years, unless required more frequently by State law, and takes steps to ensure that such reviews take place. The review and evaluation must serve to determine whether the charter school is meeting the terms of the school's charter and meeting or exceeding the student academic achievement requirements and goals for charter schools as set forth in the school's charter or under State law, a State regulation, or a State policy, provided that the student academic achievement requirements and goals for charter schools established by that policy meet or exceed those set forth under applicable State law or State regulation. This periodic review and evaluation must include an opportunity for the authorized public chartering agency to take appropriate action or impose meaningful consequences on the charter school, if necessary.

Competitive Preference Priority 2—Charter School Oversight (0 or 5 points): To meet this priority, an application must demonstrate that State law, regulations, or other policies in the State where the applicant is located require the following:

(a) That each charter school in the State—

(1) Operates under a legally binding charter or performance contract between itself and the school's authorized public chartering agency that describes the rights and responsibilities of the school and the authorized public chartering agency;

(2) Conducts annual, timely, and independent audits of the school's financial statements that are filed with the school's authorized public chartering agency; and

(3) Demonstrates improved student academic achievement; and

(b) That all authorized public chartering agencies in the State use increases in student academic achievement for all groups of students described in section 1111(c)(2) of the ESEA (20 U.S.C. 6311(c)(2)) as one of the most important factors when determining whether to renew or revoke a school's charter.

Competitive Preference Priority 3—One Authorized Public Chartering Agency Other than a Local Educational Agency, or an Appeals Process (0 or 2 points).

To meet this priority, an applicant must demonstrate that it is located in a State that—

(a) Allows at least one entity that is not a local educational agency to be an authorized public chartering agency for “developers” (as defined in this notice) seeking to open a charter school in the State; or

(b) In the case of a State in which local educational agencies are the only authorized public chartering agencies, the State has an appeals process for the denial of an application for a charter school.

Competitive Preference Priority 4—Equitable Financing (up to 2 points).

To receive points under this priority, an applicant must demonstrate the extent to which the State in which it is located ensures equitable financing, as compared to traditional public schools, for charter schools and students in a prompt manner.

Competitive Preference Priority 5—Charter School Facilities (up to 2 points).

To receive points under this priority, an applicant must demonstrate the extent to which the State in which it is located provides charter schools one or more of the following:

(a) Funding for facilities;

(b) Assistance with facilities acquisition;

(c) Access to public facilities;

(d) The ability to share in bonds or mill levies;

(e) The right of first refusal to purchase public school buildings; or

(f) Low- or no-cost leasing privileges.

Competitive Preference Priority 6—Best Practices to Improve Struggling Schools and Local Educational Agencies (up to 2 points).

To receive points under this priority, an applicant must demonstrate the extent to which the State in which it is located uses best practices from charter schools to help improve struggling schools and local educational agencies.

Competitive Preference Priority 7—Serving At-Risk Students (up to 2 points).

To receive points under this priority, an applicant must demonstrate the extent to which it supports charter schools that serve at-risk students through activities such as dropout prevention, dropout recovery, or comprehensive career counseling services.

Competitive Preference Priority 8—Best Practices for Charter School Authorizing (up to 5 points).

To receive points under this priority, an applicant must demonstrate the extent to which it has taken steps to ensure that all authorized public chartering agencies implement best practices for charter school authorizing.

Application Requirements

These application requirements are from section 4303(f) of the ESEA (20 U.S.C. 7221b(f)). The Department will reject an application that does not meet the application requirements.

Applications for funding under the CSP State Entities program must contain the following:

(I) Description of Program—A description of the State entity's objectives in running a quality charter school program and how the objectives of the program will be carried out, including—

(A) A description of how the State entity will—

(1) Support the opening of charter schools through the startup of new charter schools and, if applicable, the replication of high-quality charter schools, and the expansion of high-quality charter schools (including the proposed number of new charter schools to be opened, high-quality charter schools to be opened as a result of the replication of a high-quality charter school, or high-quality charter schools to be expanded under the State entity's program);

(2) Inform eligible charter schools, developers, and authorized public chartering agencies of the availability of funds under the program;

(3) Work with eligible applicants to ensure that the eligible applicants access all Federal funds that such applicants are eligible to receive, and help the charter schools supported by the applicants and the students attending those charter schools—

(a) Participate in the Federal programs in which the schools and students are eligible to participate;

(b) Receive the commensurate share of Federal funds the schools and students are eligible to receive under such programs; and

(c) Meet the needs of students served under such programs, including “students with disabilities” ² and “English learners” (as defined in this notice);

² For purposes of this notice, “students with disabilities,” or “student with a disability,” has the same meaning as “children with disabilities,” or “child with a disability” (as defined in this notice).

(4) Ensure that authorized public chartering agencies, in collaboration with surrounding local educational agencies where applicable, establish clear plans and procedures to assist students enrolled in a charter school that closes or loses its charter to attend other high-quality public schools;

(5) In the case of a State entity that is not a “State educational agency” (as defined in this notice)—

(a) Work with the State educational agency and charter schools in the State to maximize charter school participation in Federal and State programs for which charter schools are eligible; and

(b) Work with the State educational agency to operate the State entity's program under this competition, if applicable;

(6) Ensure that each eligible applicant that receives a subgrant under the State entity's program—

(a) Is using funds provided under this competition for one of the activities described in section 4303(b)(1) of the ESEA; and

(b) Is prepared to continue to operate charter schools funded under this competition in a manner consistent with the eligible applicant's application for such subgrant once the subgrant funds under this program are no longer available;

(7) Support—

(a) Charter schools in local educational agencies with a significant number of schools identified by the State for comprehensive support and improvement under section 1111(c)(4)(D)(i) of the ESEA; and

(b) The use of charter schools to improve struggling schools, or to turn around struggling schools;

(8) Work with charter schools on—

(a) Recruitment and enrollment practices to promote inclusion of all students, including by eliminating any barriers to enrollment for educationally disadvantaged students (who include foster youth and unaccompanied homeless youth); and

(b) Supporting all students once they are enrolled to promote retention, including by reducing the overuse of discipline practices that remove students from the classroom;

(9) Share best and promising practices between charter schools and other public schools;

(10) Ensure that charter schools receiving funds under the State entity's program meet the educational needs of their students, including “children with disabilities” (as defined in this notice) and English learners;

(11) Support efforts to increase charter school quality initiatives, including meeting the quality authorizing elements described in section 4303(f)(2)(E) of the ESEA;

(12) (a) In the case of a State entity that is not a “charter school support organization” (as defined in this notice), a description of how the State entity will provide oversight of authorizing activity, including how the State will help ensure better authorizing, such as by establishing authorizing standards that may include approving, monitoring, and re-approving or revoking the authority of an authorized public chartering agency based on the performance of the charter schools authorized by such agency in the areas of student achievement, student safety, financial and operational management, and compliance with all applicable statutes and regulations; and

(b) In the case of a State entity that is a charter school support organization, a description of how the State entity will work with the State to support the State's system of technical assistance and oversight, as described in application requirement (I)(A)(12)(a) above, of the authorizing activity of authorized public chartering agencies; and

(13) Work with eligible applicants receiving a subgrant under the State entity's program to support the opening of new charter schools or charter school models described in application requirement (I)(A)(1) that are high schools;

(B) A description of the extent to which the State entity—

(1) Is able to meet and carry out competitive preference priorities 3 through 8; ³

(2) Is working to develop or strengthen a cohesive statewide system to support the opening of new charter schools and, if applicable, the replication of high-quality charter schools, and the expansion of high-quality charter schools; and

³ In accordance with 34 CFR 105(c)(2)(i), applications are not required to address competitive preference priorities but may receive additional points if they do so. Therefore, to meet this application requirement, the State entity must describe the extent to which it is able to meet and carry out competitive preference priorities 3 through 8. If the State entity is unable to meet and carry out one or more of these competitive preference priorities, the description for that priority should state that the State entity is unable to meet or carry out the priority.

(3) Is working to develop or strengthen a cohesive strategy to encourage collaboration between charter schools and local educational agencies on the sharing of best practices;

(C) A description of how the State entity will award subgrants, on a competitive basis, including—

(1) A description of the application each eligible applicant desiring to receive a subgrant will be required to submit and how the State entity will ensure that such application complies with section 4303(f)(1)(C)(i) of the ESEA; and

(2) A description of how the State entity will review applications from eligible applicants;

(D) In the case of a State entity that partners with an outside organization to carry out the State entity's quality charter school program in whole or in part, a description of the roles and responsibilities of the partner;

(E) A description of how the State entity will ensure that each charter school receiving funds under the State entity's program has considered and planned for the transportation needs of the school's students;

(F) A description of how the State in which the State entity is located addresses charter schools in the State's open meetings and open records laws; and

(G) A description of how the State entity will support diverse charter school models, including models that serve rural communities.

(II) Assurances that—

(A) Each charter school receiving funds through the State entity's program will have a high degree of autonomy over budget and operations, including autonomy over personnel decisions;

(B) The State entity will support charter schools in meeting the educational needs of their students, including children with disabilities and English learners;

(C) The State entity will ensure that the authorized public chartering agency of any charter school that receives funds under the State entity's program adequately monitors each charter school under the authority of such agency in recruiting, enrolling, retaining, and meeting the needs of all students, including children with disabilities and English learners;

(D) The State entity will provide adequate technical assistance to eligible applicants to meet the objectives described in application requirement (I)(A)(8) above;

(E) The State entity will promote quality authorizing, consistent with State law, such as through providing technical assistance to support each authorized public chartering agency in the State to improve such agency's ability to monitor the charter schools authorized by the agency, including by—

(1) Assessing annual performance data of the schools, including, as appropriate, graduation rates, student academic growth, and rates of student attrition;

(2) Reviewing the schools' independent, annual audits of financial statements prepared in accordance with generally accepted accounting principles and ensuring that any such audits are publically reported; and

(3) Holding charter schools accountable to the academic, financial, and operational quality controls agreed to between the charter school and the authorized public chartering agency involved, such as through renewal, non-renewal, or revocation of the school's charter;

(F) The State entity will work to ensure that charter schools are included with the traditional public schools in decisionmaking about the public school system in the State; and

(G) The State entity will ensure that each charter school receiving funds under the State entity's program makes publicly available, consistent with the dissemination requirements of the annual State report card under section 1111(h) of the ESEA, including on the Web site of the school, information to help “parents” (as defined in this notice) make informed decisions about the education options available to their children, including—

(1) Information on the educational program;

(2) Student support services;

(3) Parent contract requirements (as applicable), including any financial obligations or fees;

(4) Enrollment criteria (as applicable); and

(5) Annual performance and enrollment data for each of the subgroups of students, as defined in section 1111(c)(2) of the ESEA, except that such disaggregation of performance and enrollment data shall not be required in a case in which the number of students in a group is insufficient to yield statistically reliable information or the results would reveal personally identifiable information about an individual student.

(III) Requests for information about waivers, including—

(A) A request and justification for waivers of any Federal statutory or regulatory provisions that the State entity believes are necessary for the successful operation of the charter schools that will receive funds under the State entity's program under section 4303 of the ESEA or, in the case of a State entity that is a charter school support organization, a description of how the State entity will work with the State to request such necessary waivers, where applicable; and

(B) A description of any State or local rules, generally applicable to public schools, that will be waived or otherwise not apply to such schools.

Definitions

The following definitions are from sections 4303(a), 4310, and 8101 of the ESEA (20 U.S.C. 7221b(a), 7221i, and 7801), and 34 CFR 77.1.

Ambitious means promoting continued, meaningful improvement for program participants or for other individuals or entities affected by the grant, or representing a significant advancement in the field of education research, practices, or methodologies. When used to describe a “performance target” (as defined in this notice), whether a performance target is ambitious depends upon the context of the relevant “performance measure” (as defined in this notice) and the “baseline” (as defined in this notice) for that measure. (34 CFR 77.1)

Authorized public chartering agency means a State educational agency, local educational agency, or other public entity that has the authority pursuant to State law and approved by the Secretary to authorize or approve a charter school. (ESEA section 4310(1))

Baseline means the starting point from which performance is measured and targets are set. (34 CFR 77.1)

Charter school means a public school that—

(a) In accordance with a specific State statute authorizing the granting of charters to schools, is exempt from significant State or local rules that inhibit the flexible operation and management of public schools, but not from any rules relating to the other requirements of this definition;

(b) Is created by a developer as a public school, or is adapted by a developer from an existing public school, and is operated under public supervision and direction;

(c) Operates in pursuit of a specific set of educational objectives determined by the school's developer and agreed to by the authorized public chartering agency;

(d) Provides a program of elementary or secondary education, or both;

(e) Is nonsectarian in its programs, admissions policies, employment practices, and all other operations, and is not affiliated with a sectarian school or religious institution;

(f) Does not charge tuition;

(g) Complies with the Age Discrimination Act of 1975, title VI of the Civil Rights Act of 1964, title IX of the Education Amendments of 1972, section 504 of the Rehabilitation Act of 1973, the Americans with Disabilities Act of 1990 (42 U.S.C. 12101 et seq.), section 444 of GEPA (20 U.S.C. 1232g) (commonly referred to as the “Family Educational Rights and Privacy Act of 1974”) and part B of the IDEA;

(h) Is a school to which parents choose to send their children, and that—

(1) Admits students on the basis of a lottery, consistent with section 4303(c)(3)(A) of the ESEA, if more students apply for admission than can be accommodated; or

(2) In the case of a school that has an affiliated charter school (such as a school that is part of the same network of schools), automatically enrolls students who are enrolled in the immediate prior grade level of the affiliated charter school and, for any additional student openings or student openings created through regular attrition in student enrollment in the affiliated charter school and the enrolling school, admits students on the basis of a lottery as described in paragraph (1);

(i) Agrees to comply with the same Federal and State audit requirements as do other elementary schools and secondary schools in the State, unless such State audit requirements are waived by the State;

(j) Meets all applicable Federal, State, and local health and safety requirements;

(k) Operates in accordance with State law;

(l) Has a written performance contract with the authorized public chartering agency in the State that includes a description of how student performance will be measured in charter schools pursuant to State assessments that are required of other schools and pursuant to any other assessments mutually agreeable to the authorized public chartering agency and the charter school; and

(m) May serve students in early childhood educational programs or postsecondary students. (ESEA section 4310(2))

Charter management organization means a nonprofit organization that operates or manages a network of charter schools linked by centralized support, operations, and oversight. (ESEA section 4310(3))

Charter school support organization means a nonprofit, non-governmental entity that is not an authorized public chartering agency and provides, on a statewide basis—

(a) Assistance to developers during the planning, program design, and initial implementation of a charter school; and

(b) Technical assistance to operating charter schools. (ESEA section 4310(4))

Child with a disability means—

(a) A child (i) with mental retardation, hearing impairments (including deafness), speech or language impairments, visual impairments (including blindness), serious emotional disturbance (referred to in this title as `emotional disturbance'), orthopedic impairments, autism, traumatic brain injury, other health impairments, or specific learning disabilities; and (ii) who, by reason thereof, needs special education and related services.

(b) For a child aged 3 through 9 (or any subset of that age range, including ages 3 through 5), may, at the discretion of the State and the local educational agency, include a child (i) experiencing developmental delays, as defined by the State and as measured by appropriate diagnostic instruments and procedures, in one or more of the following areas: Physical development; cognitive development; communication development; social or emotional development; or adaptive development; and (ii) who, by reason thereof, needs special education and related services. (ESEA section 8101(4))

Developer means an individual or group of individuals (including a public or private nonprofit organization), which may include teachers, administrators and other school staff, parents, or other members of the local community in which a charter school project will be carried out. (ESEA section 4310(5))

Early childhood education program means (A) a Head Start program or an Early Head Start program carried out under the Head Start Act (42 U.S.C. 9831 et seq.), including a migrant or seasonal Head Start program, an Indian Head Start program, or a Head Start program or an Early Head Start program that also receives State funding; (B) a State licensed or regulated child care program; or (C) a program that (i) serves children from birth through age six that addresses the children's cognitive (including language, early literacy, and early mathematics), social, emotional, and physical development; and (ii) is (I) a State prekindergarten program; (II) a program authorized under section 619 or part C of the Individuals with Disabilities Education Act; or (III) a program operated by a local educational agency. (ESEA section 8101(16))

Eligible applicant, when used with respect to subgrants made by a State entity, means a developer that has—

(a) Applied to an authorized public chartering authority to operate a charter school; and

(b) Provided adequate and timely notice to that authority. (ESEA section 4310(6))

English learner, when used with respect to an individual, means an individual—

(a) Who is aged 3 through 21;

(b) Who is enrolled or preparing to enroll in an elementary school or secondary school;

(c)(1) Who was not born in the United States or whose native language is a language other than English;

(2)(i) Who is a Native American or Alaska Native, or a native resident of the outlying areas; and

(ii) Who comes from an environment where a language other than English has had a significant impact on the individual's level of English language proficiency; or

(3) Who is migratory, whose native language is a language other than English, and who comes from an environment where a language other than English is dominant; and

(d) Whose difficulties in speaking, reading, writing, or understanding the English language may be sufficient to deny the individual—

(1) The ability to meet the challenging State academic standards;

(2) The ability to successfully achieve in classrooms where the language of instruction is English; or

(3) The opportunity to participate fully in society. (ESEA section 8101(20))

Expand, when used with respect to a high-quality charter school, means to significantly increase enrollment or add one or more grades to the high-quality charter school. (ESEA section 4310(7))

High-quality charter school means a charter school that—

(a) Shows evidence of strong academic results, which may include strong student academic growth, as determined by a State;

(b) Has no significant issues in the areas of student safety, financial and operational management, or statutory or regulatory compliance;

(c) Has demonstrated success in significantly increasing student academic achievement, including graduation rates where applicable, for all students served by the charter school; and

(d) Has demonstrated success in increasing student academic achievement, including graduation rates where applicable, for each of the subgroups of students, as defined in section 1111(c)(2) of the ESEA, except that such demonstration is not required in a case in which the number of students in a group is insufficient to yield statistically reliable information or the results would reveal personally identifiable information about an individual students. (ESEA section 4310(8))

Logic model (also referred to as a theory of action) means a well-specified conceptual framework that identifies key components of the proposed process, product, strategy, or practice (i.e., the active “ingredients” that are hypothesized to be critical to achieving the relevant outcomes) and describes the relationships among the key components and outcomes, theoretically and operationally. (34 CFR 77.1)

Parent includes a legal guardian or other person standing in loco parentis (such as a grandparent or stepparent with whom the child lives, or a person who is legally responsible for the child's welfare). (ESEA section 8101(38))

Performance Measure means any quantitative indicator, statistic, or metric used to gauge program or project performance. (34 CFR 77.1)

Performance Target means a level of performance that an applicant would seek to meet during the course of a project or as a result of a project. (34 CFR 77.1)

Replicate, when used with respect to a high-quality charter school, means to open a new charter school, or a new campus of a high-quality charter school, based on the educational model of an existing high-quality charter school, under an existing charter or an additional charter, if permitted or required by State law. (ESEA section 4310(9))

State means each of the 50 States, the District of Columbia, the Commonwealth of Puerto Rico, and each of the outlying areas. (ESEA section 8101(48))

State educational agency means the agency primarily responsible for the State supervision of public elementary schools and secondary schools. (ESEA section 8101(45))

State entity means—

(a) A State educational agency;

(b) A State charter school board;

(c) A Governor of a State; or

(d) A charter school support organization. (ESEA section 4303(a))

Program Authority: Title IV, Part C of the ESEA (20 U.S.C. 7221-7221j).

Applicable Regulations: (a) The Education Department General Administrative Regulations (EDGAR) in 34 CFR parts 75, 76, 77, 79, 81, 82, 84, 97, 98, and 99. (b) The OMB Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended in 2 CFR part 3474. (d) The NFP.

II. Award Information

Type of Award: Discretionary grant.

Estimated Available Funds: The Further Continuing and Security Assistance Appropriations Act, 2017, would provide, on an annualized basis, $332,538,640 for the CSP program, of which we would use an estimated $157,000,000 for this competition. The actual level of funding, if any, depends on final congressional action. However, we are inviting applications to allow enough time to complete the grant process if Congress appropriates funds for this program.

Contingent upon the availability of funds and the quality of applications, we may make additional awards in FY 2018 from the list of unfunded applications from this competition.

Estimated Range of Awards: $2,000,000 to $23,000,000 per year.

Estimated Average Size of Awards: $10,000,000 per year.

Maximum Award: See Reasonable and Necessary Costs in section III.4.(a) of this notice for information regarding the maximum amount of funds that State entities may award for each charter school receiving subgrant funds.

Estimated Number of Awards: 3-8.

Note: The Department is not bound by any estimates in this notice. The estimated range and average size of awards are based on a single 12-month budget period. We may use FY 2017 funds to support multiple 12-month budget periods for one or more grantees.

Project Period: Up to five years.

Note: State entities may award subgrants to eligible applicants for a period of up to five years, no more than 18 months of which may be used for planning and program design.

III. Eligibility Information

1. Eligible Applicants: State entities in States with a State statute specifically authorizing the establishment of charter schools.

Under section 4303(e)(1) of the ESEA, no State entity may receive a grant under this program for use in a State in which a State entity is currently using a grant received under this program. Accordingly, if multiple State entities in a State submit applications that receive high enough scores to be recommended for funding under this competition, only the highest-scoring application amongst such State entities would be funded.

Note: A charter school developer in a State in which no State entity has an application for a grant approved under section 4303 of the ESEA may apply for funding directly from the Department under the CSP Grants to Developers competitions. Additional information about the CSP Grants to Developers competitions is available at http://innovation.ed.gov/what-we-do/charter-schools.

2. Audits: (a) All grantees must provide to the Department their most recent independent audits of the grantee's financial statements prepared in accordance with generally accepted accounting principles, and all grantees must continue to provide independent, annual audits of their financial statements prepared in accordance with generally accepted accounting principles each year of the grant.

(b) All grantees must ensure that charter schools receiving subgrants conduct independent, annual audits of their financial statements prepared in accordance with generally accepted accounting principles, and ensure that any such audits are publicly reported.

3. Cost Sharing or Matching: This program does not require cost sharing or matching.

4. Other: (a) Reasonable and Necessary Costs: The Secretary may elect to impose maximum limits on the amount of subgrant funds that a State entity may award to an eligible applicant per new charter school created or replicated, per charter school expanded, or per new school seat created.

For this competition, the maximum amount of grant funds a State entity may award to a subgrantee per new charter school, replicated high-quality charter school, or expanding high-quality charter school is $900,000.

Note: Applicants must ensure that all costs included in the proposed budget are reasonable and necessary in light of the goals and objectives of the proposed project. Any costs determined by the Secretary to be unreasonable or unnecessary will be removed from the final approved budget.

IV. Application and Submission Information

1. Address to Request Application Package: Kathryn Meeley, U.S. Department of Education, 400 Maryland Avenue SW., Room 4W257, Washington, DC 20202-5970. Telephone: (202) 453-6818 or by email: charterschools@ed.gov.

If you use a telecommunications device for the deaf (TDD) or a text telephone (TTY), call the Federal Relay Service (FRS), toll free, at 1-800-877-8339.

Individuals with disabilities can obtain a copy of the application package in an accessible format (e.g., braille, large print, audiotape, or compact disc) by contacting the program contact person listed in this section.

2.a. Content and Form of Application Submission: Requirements concerning the content and form of an application, together with the forms you must submit, are in the application package for this competition.

Page Limit: The application narrative (Part III of the application) is where you, the applicant, address the priorities, selection criteria, and application requirements that reviewers use to evaluate your application. We recommend that you limit the application narrative to no more than 60 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, or the letters of support. However, the page limit does apply to all of the application narrative.

b. Submission of Proprietary Information: Given the types of projects that may be proposed in applications for the State Entities grant competition, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you feel is exempt from disclosure under Exemption 4. In the appropriate Appendix section of your application, under “Other Attachments Form,” please list the page number or numbers on which we can find this information. For additional information please see 34 CFR 5.11(c).

3. Submission Dates and Times:

Applications Available: March 27, 2017.

Date of Pre-Application Webinar: The Department will hold a pre-application meeting via Webinar for prospective applicants on March 30, 2017 from 2:00 p.m.-4:00 p.m., Washington, DC, time. Individuals interested in attending this meeting are encouraged to pre-register by emailing their name, organization, and contact information with the subject heading “STATE ENTITIES PRE-APPLICATION MEETING” to CharterSchools@ed.gov. There is no registration fee for attending this meeting.

For further information about the pre-application meeting, contact Kathryn Meeley, U.S. Department of Education, 400 Maryland Avenue SW., Room 4W257, Washington, DC 20202-5970. Telephone: (202) 453-6818 or by email: kathryn.meeley@ed.gov.

Deadline for Transmittal of Applications: May 11, 2017.

Applications for grants under this competition must be submitted electronically using the Grants.gov Apply site (Grants.gov). For information (including dates and times) about how to submit your application electronically, or in paper format by mail or hand delivery if you qualify for an exception to the electronic submission requirement, please refer to Other Submission Requirements in section IV of this notice.

We do not consider an application that does not comply with the deadline requirements.

Individuals with disabilities who need an accommodation or auxiliary aid in connection with the application process should contact the person listed under For Further Information Contact in section VII of this notice. If the Department provides an accommodation or auxiliary aid to an individual with a disability in connection with the application process, the individual's application remains subject to all other requirements and limitations in this notice.

Deadline for Intergovernmental Review: July 10, 2017.

4. Intergovernmental Review: This program is subject to Executive Order 12372 and the regulations in 34 CFR part 79. Information about Intergovernmental Review of Federal Programs under Executive Order 12372 is in the application package for this competition.

5. Funding Restrictions: In accordance with section 4303(c) of the ESEA, a State entity receiving a grant under this program shall use not less than 90 percent of the grant funds to award subgrants to eligible applicants, in accordance with the charter school program described in the State entity's application pursuant to section 4303(f) of the ESEA, for activities related to opening and preparing for the operation of new charter schools or to replicate or expand high-quality charter schools; reserve not less than seven percent of such funds to provide technical assistance to eligible applicants and authorized public chartering agencies in opening and preparing for the operation of new charter schools or to replicate or expand high-quality charter schools and in improving authorizing quality, including developing capacity for, and conducting, fiscal oversight and auditing of charter schools; and reserve not more than three percent of such funds for administrative costs, which may include technical assistance. A State entity may use a grant received under this program to carry out the activities authorized under this program directly or through grants, contracts, or cooperative agreements.

Limitation on Grants and Subgrants: A grant awarded by the Secretary to a State entity under this competition shall be for a period of not more than five years.

A subgrant awarded by a State entity under this program shall be for a period of not more than five years, of which an eligible applicant may use not more than 18 months for planning and program design. An eligible applicant may not receive more than one subgrant under this program for each individual charter school for a five-year period, unless the eligible applicant demonstrates to the State entity that such individual charter school has at least three years of improved educational results for students enrolled in such charter school, with respect to the elements described in section 4310(8)(A) and (D) of the ESEA.⁴

⁴ Section 4303(e)(2) of the ESEA clarifies when an applicant may be eligible to apply to a State entity for a second subgrant for an individual charter school. The applicant still would have to meet all program requirements, including the requirements for replicating or expanding a high-quality charter school.

Other CSP Grants: A charter school that previously received CSP funds for planning or initial implementation under section 5202(c)(2) of the ESEA, as amended by the NCLB (CFDA number 84.282B), or for the replication or expansion of a high-quality charter school under one of the Department's Appropriations Acts ⁵ (CFDA number 84.282M), is not eligible to receive funds from a State entity under this program for the same or a substantially similar purpose. However, a charter school may be eligible to receive funds to expand if the school is a high-quality charter school.

⁵ Beginning with the Consolidated Appropriations Act, 2010, Public Law 111-117, each of the Department's Appropriations Acts through the FY 2016 Appropriations Act authorized the Secretary to award grants for the replication and expansion of charter schools.

Likewise, a charter school that receives funds from a State entity is ineligible to receive funds for the same or a substantially similar purpose under section 4305(a)(2) and (b) of the ESEA.

Uses of Subgrant Funds: State entities awarded grants under this competition shall award subgrants to eligible applicants to enable such eligible applicants to—

(a) Open and prepare for the operation of new charter schools;

(b) Open and prepare for the operation of replicated high-quality charter schools; or

(c) Expand high-quality charter schools.

An eligible applicant receiving a subgrant under this program shall use such funds to support activities related to opening and preparing for the operation of new charter schools or replicating or expanding high-quality charter schools, which shall include one or more of the following:

(a) Preparing teachers, school leaders, and specialized instructional support personnel, including through paying costs associated with—

(i) Providing professional development; and

(ii) Hiring and compensating, during the eligible applicant's planning period specified in the application for funds, one or more of the following:

(A) Teachers.

(B) School leaders.

(C) Specialized instructional support personnel.

(b) Acquiring supplies, training, equipment (including technology), and educational materials (including developing and acquiring instructional materials).

(c) Carrying out necessary renovations to ensure that a new school building complies with applicable statutes and regulations, and minor facilities repairs (excluding construction).

(d) Providing one-time, startup costs associated with providing transportation to students to and from the charter school.

(e) Carrying out community engagement activities, which may include paying the cost of student and staff recruitment.

(f) Providing for other appropriate, non-sustained costs related to opening, replicating, or expanding high-quality charter schools when such costs cannot be met from other sources.

Diversity of Projects: Each State entity awarding subgrants under this competition shall award subgrants in a manner that, to the extent practicable and applicable, ensures that such subgrants—

(a) Are distributed throughout different areas, including urban, suburban, and rural areas; and

(b) Will assist charter schools representing a variety of educational approaches.

Award Basis: In determining whether to approve a grant award and the amount of such award, the Department will consider, among other things, the applicant's performance and use of funds under a previous or existing award under any Department program (34 CFR 75.217(d)(3)(ii) and 233(b)). In assessing the applicant's performance and use of funds under a previous or existing award, the Secretary will consider, among other things, the outcomes the applicant has achieved and the results of any Departmental grant monitoring, including the applicant's progress in remedying any deficiencies identified in such monitoring.

We reference additional regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM), the Government's primary registrant database;

c. Provide your DUNS number and TIN on your application; and

d. Maintain an active SAM registration with current information while your application is under review by the Department and, if you are awarded a grant, during the project period.

You can obtain a DUNS number from Dun and Bradstreet at the following Web site: http://fedgov.dnb.com/webform. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data you enter into the SAM database. Thus, if you think you might want to apply for Federal financial assistance under a program administered by the Department, please allow sufficient time to obtain and register your DUNS number and TIN. We strongly recommend that you register early.

Note: Once your SAM registration is active, it may be 24 to 48 hours before you can access the information in, and submit an application through, Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements. Applications for grants under this competition must be submitted electronically unless you qualify for an exception to this requirement in accordance with the instructions in this section.

a. Electronic Submission of Applications. Applications for grants under the CSP Grants to Support High-Quality Charter Schools for State Entities, CFDA number 84.282A, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for CSP Grants to Support High-Quality Charter Schools for State Entities at www.Grants.gov. You must search for the downloadable application package for this competition by the CFDA number. Do not include the CFDA number's alpha suffix in your search (e.g., search for 84.282, not 84.282A).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov. In addition, for specific guidance and procedures for submitting an application through Grants.gov, please refer to the Grants.gov Web site at: www.grants.gov/web/grants/applicants/apply-for-grants.html.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a read-only, non-modifiable Portable Document Format (PDF). Do not upload an interactive or fillable PDF file. If you upload a file type other than a read-only, non-modifiable PDF (e.g., Word, Excel, WordPerfect, etc.) or submit a password-protected file, we will not review that material. Please note that this could result in your application not being considered for funding because the material in question—for example, the application narrative—is critical to a meaningful review of your proposal. For that reason it is important to allow yourself adequate time to upload all material as PDF files. The Department will not convert material from other formats to PDF.

• Your electronic application must comply with any page-limit requirements described in this notice.

• After you electronically submit your application, you will receive from Grants.gov an automatic notification of receipt that contains a Grants.gov tracking number. This notification indicates receipt by Grants.gov only, not receipt by the Department. Grants.gov will also notify you automatically by email if your application met all the Grants.gov validation requirements or if there were any errors (such as submission of your application by someone other than a registered Authorized Organization Representative, or inclusion of an attachment with a file name that contains special characters). You will be given an opportunity to correct any errors and resubmit, but you must still meet the deadline for submission of applications.

Once your application is successfully validated by Grants.gov, the Department will retrieve your application from Grants.gov and send you an email with a unique PR/Award number for your application.

These emails do not mean that your application is without any disqualifying errors. While your application may have been successfully validated by Grants.gov, it must also meet the Department's application requirements as specified in this notice and in the application instructions. Disqualifying errors could include, for instance, failure to upload attachments in a read-only, non-modifiable PDF; failure to submit a required part of the application; or failure to meet applicant eligibility requirements. It is your responsibility to ensure that your submitted application has met all of the Department's requirements.

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that the problem affected your ability to submit your application by 4:30:00 p.m., Washington, DC time, on the application deadline date. We will contact you after we determine whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because--

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Kathryn Meeley, U.S. Department of Education, 400 Maryland Avenue SW., Room 4W257, Washington, DC 20202-5970. FAX: (202) 453-6818.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: CFDA Number 84.282A, LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

Note: The U.S. Postal Service does not uniformly provide a dated postmark. Before relying on this method, you should check with your local post office.

We will not consider applications postmarked after the application deadline.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: CFDA Number 84.282A, 550 12th Street, SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The Secretary awards grants to State entities on the basis of the quality of the applications submitted under section 4303(f) of the ESEA, after taking into consideration the following selection criteria. These selection criteria are from section 4303(g)(1) of the ESEA (20 U.S.C. 7221b(g)(1)) and the NFP. The maximum possible total score an application can receive for addressing the criteria is 100 points. The maximum possible score for each criterion is indicated in parentheses following the criterion.

(a) Flexibility (up to 10 points): The degree of flexibility afforded by the State's charter school law and how the State entity will work to maximize the flexibility provided to charter schools under such law.

(b) Objectives (up to 15 points): The ambitiousness of the State entity's objectives for the quality charter school program carried out under this program.

(c) Quality of Eligible Subgrant Applicants (up to 15 points): The likelihood that the eligible applicants receiving subgrants under the program will meet those objectives and improve educational results for students.

(d) State Plan (up to 20 points): The State entity's plan to—

(1) Adequately monitor the eligible applicants receiving subgrants under the State entity's program;

(2) Work with the authorized public chartering agencies involved to avoid duplication of work for the charter schools and authorized public chartering agencies; and

(3) Provide technical assistance and support for—

(i) The eligible applicants receiving subgrants under the State entity's program; and

(ii) Quality authorizing efforts in the State.

(e) Parent and Community Involvement (up to 10 points): The State entity's plan to solicit and consider input from parents and other members of the community on the implementation and operation of charter schools in the State.

(f) Quality of the Project Design (up to 15 points): The Secretary considers the quality of the design of the State entity's charter school subgrant program, including the extent to which the project design furthers the State entity's overall strategy for increasing the number of high-quality charter schools in the State and improving student academic achievement. In determining the quality of the project design, the Secretary considers the quality of the State entity's process for awarding subgrants for planning, program design, and initial implementation including—

(1) The subgrant application and peer review process, timelines for these processes, and how the State entity intends to ensure that subgrants will be awarded to eligible applicants demonstrating the capacity to create high-quality charter schools; and

(2) A reasonable year-by-year estimate, with supporting evidence, of (i) the number of subgrants the State entity expects to award during the project period and the average size of those subgrants, including an explanation of any assumptions upon which the estimates are based; and (ii) if the State entity has previously received a CSP grant, the percentage of eligible applicants that were awarded subgrants and how this percentage related to the overall quality of the applicant pool.

(g) Quality of the Management Plan and Theory of Action (up to 15 points): The Secretary considers the quality of the management plan and the project's theory of action. In determining the quality of the management plan and the project's theory of action, the Secretary considers the following factors:

(1) The quality, including the cohesiveness and strength of reasoning, of the “logic model” (as defined in this notice), and the extent to which it addresses the role of the grant in promoting the State-level strategy for using charter schools to improve educational outcomes for students through CSP subgrants for planning, program design, and initial implementation and other strategies;

(2) The extent to which the State entity's project-specific performance measures, including any measures required by the Department, support the logic model; and

(3) The adequacy of the management plan to—

(i) Achieve the objectives of the proposed project on time and within budget, including the existence of clearly defined responsibilities, timelines, and milestones for accomplishing project tasks; and

(ii) Address any compliance issues or findings related to the CSP that are identified in an audit or other monitoring review.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department of Education (34 CFR 100.4, 104.5, 106.4, 108.8, and 110.23).

3. Risk Assessment and Special Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $150,000) under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through SAM. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) In accordance with section 4303(i) of the ESEA, each State entity receiving a grant under this section shall submit to the Secretary, at the end of the third year of the five-year grant period (or at the end of the second year if the grant period is less than five years), and at the end of such grant period, a report that includes the following:

(1) The number of students served by each subgrant awarded under this section and, if applicable, the number of new students served during each year of the period of the subgrant.

(2) A description of how the State entity met the objectives of the quality charter school program described in the State entity's application, including—

(A) How the State entity met the objective of sharing best and promising practices as outlined in section 4303(f)(1)(A)(ix) of the ESEA in areas such as instruction, professional development, curricula development, and operations between charter schools and other public schools; and

(B) If known, the extent to which such practices were adopted and implemented by such other public schools.

(3) The number and amount of subgrants awarded under this program to carry out activities described in section 4303(b)(1)(A) through (C) of the ESEA.

(4) A description of—

(A) How the State entity complied with, and ensured that eligible applicants complied with, the assurances included in the State entity's application; and

(B) How the State entity worked with authorized public chartering agencies, and how the agencies worked with the management company or leadership of the schools that received subgrant funds under this program, if applicable.

(d) Under 34 CFR 75.250(b), the Secretary may provide a grantee with additional funding for data collection analysis and reporting. In this case the Secretary establishes a data collection period.

4. Performance Measures:

(a) Program Performance Measures (GPRA Measures). The primary goal of the CSP is to support the creation and development of a large number of high-quality charter schools that are free from State or local rules that inhibit flexible operation, are held accountable for enabling students to reach challenging State performance standards, and are open to all students. The Secretary has established two performance indicators to measure progress towards this goal: (1) The number of charter schools in operation around the Nation, and (2) the percentage of fourth- and eighth-grade charter school students who are achieving at or above the proficient level on State assessments in mathematics and reading/language arts. Additionally, the Secretary has established the following measure to examine the efficiency of the CSP: Federal cost per student in implementing a successful school (defined as a school in operation for three or more consecutive years).

(b) Project-Specific Performance Measures. Applicants must propose project-specific performance measures and performance targets consistent with the objectives of the proposed project. Applications must provide the following information as directed under 34 CFR 75.110(b) and (c).

(1) Performance measures. How each proposed performance measure would accurately measure the performance of the project and how the proposed performance measure would be consistent with the performance measures established for the program funding the competition.

(2) Baseline data. (i) Why each proposed “baseline” (as defined in this notice) is valid; or (ii) If the applicant has determined that there are no established baseline data for a particular performance measure, an explanation of why there is no established baseline and of how and when, during the project period, the applicant would establish a valid baseline for the performance measure.

(3) Performance targets. Why each proposed performance target is ambitious yet achievable compared to the baseline for the performance measure and when, during the project period, the applicant would meet the performance target(s).

(4) Data Collection and reporting. (i) The data collection and reporting methods the applicant would use and why those methods are likely to yield reliable, valid, and meaningful performance data; and (ii) the applicant's capacity to collect and report reliable, valid, and meaningful performance data, as evidenced by high-quality data collection, analysis, and reporting in other projects or research.

All grantees must submit an annual performance report with information that is responsive to these performance measures.

5. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

6. Project Director's Meeting: Applicants approved for funding under this competition must attend a two-day meeting for project directors at a location to be determined in the continental United States during each year of the project. Applicants may include the cost of attending this meeting in their proposed budgets.

VII. Agency Contact

VIII. Other Information

Accessible Format: Individuals with disabilities can obtain this document and a copy of the application package in accessible format (e.g., braille, large print, audiotape, or compact disc) on request to the program contact person listed under For Further Information Contact in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or PDF. To use PDF you must have Adobe Acrobat Reader, which is available free at the site.

You may also access documents of the Department published in the Federal Register by using the article search feature at: www.federalregister.gov. Specifically, through the advanced search feature at this site, you can limit your search to documents published by the Department.

Dated: March 22, 2017.
Margo Anderson,
Acting Assistant Deputy Secretary for Innovation and Improvement.

[FR Doc. 2017-06017 Filed 3-24-17; 8:45 am]

BILLING CODE 4000-01-P